DEPARTMENT OF THE INTERIOR

Bureau of Land Management

[16X L1109AF LLUTY0100000 L16100000.DQ0000 LXSS030J0000 24 1A]

Notice of Availability of the Moab Master Leasing Plan and Proposed Resource Management Plan Amendments/Final Environmental Impact Statement for the Moab and Monticello Field Offices, UT

AGENCY: Bureau of Land Management, Interior.

ACTION: Notice.

SUMMARY: In accordance with the National Environmental Policy Act of 1969 (NEPA), as amended, and the Federal Land Policy and Management Act of 1976 (FLPMA), as amended, the Bureau of Land Management (BLM) has prepared the Moab Master Leasing Plan (MLP) and Proposed Resource Management Plan (RMP) Amendments/Final Environmental Impact Statement (EIS) for the Moab and Monticello Field Offices in the Canyon Country District, Utah. The MLP/Proposed RMP Amendments/Final EIS (MLP/FEIS) proposes amending the RMPs for the Moab and Monticello Field Offices and by this notice the BLM is announcing its availability.

DATES: BLM planning regulations state that any person who meets the conditions as described in the regulations may protest the BLM's MLP/FEIS. A person who meets the conditions and files a protest must file the protest within 30 days of the date that the Environmental Protection Agency publishes its Notice of Availability in the Federal Register.

ADDRESSES: Copies of the Moab MLP and Proposed RMP Amendments/Final EIS have been sent to affected Federal, State, and local government agencies, affected tribal governments, and to other stakeholders. Copies of the MLP/Proposed RMP Amendments/Final EIS are available for public inspection at the following locations:

• Bureau of Land Management, Utah State Office, 440 West 200 South, Suite 500, Salt Lake City, Utah 84101

• Bureau of Land Management, Moab Field Office, 82 East Dogwood, Moab, Utah 84532

• Bureau of Land Management, Monticello Field Office, 365 North Main, Monticello, Utah 84535

Interested persons may also review the MLP/Proposed RMP Amendments/Final EIS and accompanying background documents on the internet at: http://www.blm.gov/21jd. All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003

FOR FURTHER INFORMATION CONTACT: Brent Northrup, Project Manager, BLM Moab Field Office, telephone 435-259-2151; 82 East Dogwood, Moab, Utah 84532; email Brent_Northrup@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The MLP/Proposed RMP Amendments/Final EIS would change the management direction for the leasing of oil, gas and potash in portions of the Moab and Monticello plan areas. The MLP planning area encompasses 785,000 acres of public lands in southeast Utah in Grand and San Juan Counties. The planning area is located south of Interstate 70 and adjoins the town of Moab and Arches National Park. The western boundary is the Green River and the northeastern boundary of Canyonlands National Park. To the south of Moab, the planning area includes the Indian Creek/Lockhart Basin/Hatch Point area between Canyonlands National Park and Highway 191. Land uses and values within the planning area include substantial potash resources, proven oil and gas resources, world class scenery, and both developed and back-country recreational opportunities. In addition, the planning area is immediately adjacent to Arches and Canyonlands National Parks. This unique combination of values means the planning area contributes to the local economy both through tourism and mineral extraction.

The BLM has prepared a MLP/Proposed RMP Amendments/Final EIS in accordance with the BLM Washington Office Instruction Memorandum (IM No. 2010-117: Oil and Gas Leasing Reform—Land Use Planning and Lease Parcel Reviews (May 17, 2010)) and the BLM Handbook H-1624-1: Planning for Fluid Mineral Resources, Chapter V, Master Leasing Plans (January 28, 2013). As the Handbook explains, an MLP is a plan that includes analysis of a distinct geographic area that takes a closely-focused look at RMP decisions pertaining to leasing and post-leasing development of the area. Although the IM and the Handbook pertain to oil and gas leasing decisions, the BLM determined that the MLP concepts are also applicable to potash leasing decisions due to the nature of potash exploration and development in the planning area. Therefore, the MLP process provides additional planning and analysis for areas prior to new leasing of oil and gas and potash. The MLP/Proposed RMP Amendments/Final EIS analyzes likely mineral development scenarios and land use plan alternatives with varying mitigation levels for leasing.

The MLP/Proposed RMP Amendments/Final EIS includes a range of management alternatives designed to address management challenges and issues raised during scoping concerning mineral leasing decisions in the area. The four alternatives are:

(1) Alternative A is the No Action alternative and represents the continuation of existing mineral leasing management (oil, gas, and potash). Alternative A allows for oil, gas, and potash leasing and development to occur on the same tracts of land where it is consistent with current leasing decisions in the RMPs.

(2) Alternative B provides for mineral leasing and development outside of areas that are protected for high scenic quality (including public lands visible from Arches and Canyonlands National Parks), high-use recreation areas, and other sensitive resources with stipulations that minimize surface disturbance and associated potential resource impacts. Mineral leasing decisions are divided into two options specified as Alternative B1 and Alternative B2. In Alternative B1, surface impacts would be minimized by separating new leasing of the two commodities (oil/gas and potash), limiting the density of mineral development, and locating potash processing facilities in areas identified with the least amount of sensitive resources. Potash leasing would involve a phased approach and would be prioritized within identified areas. Alternative B2 provides for only oil and gas leasing; no new potash leasing would occur. Alternative B2 would also minimize surface impacts by limiting the density of oil and gas development.

(3) Alternative C provides for only oil and gas leasing; no potash leasing would occur. This alternative affords the greatest protection to areas with high scenic quality, recreational uses, and special designations, the BLM-managed lands adjacent to Arches and Canyonlands National Parks, and other sensitive resources.

(4) Alternative D is the BLM's proposed plan and provides for both oil and gas leasing and potash leasing. Mineral development would be precluded in many areas with high scenic quality, in some high use recreation areas, specifically designated areas, and in other areas with sensitive resources. Outside of these areas, surface impacts would be minimized by separating leasing of the two commodities (oil/gas and potash), locating potash processing facilities in areas with the least amount of sensitive resources, and limiting the density of mineral development. Potash leasing would involve a phased approach and would be prioritized within identified areas. The proposed plan would provide operational flexibility for mineral leasing and development through some specific exceptions and would close the BLM-managed lands adjacent to Arches and Canyonlands National Parks to mineral leasing and development. In the proposed plan, a controlled surface use stipulation requiring compensatory mitigation would be applied to sensitive resources where onsite mitigation alone may not be sufficient to adequately mitigate impacts. Best Management Practices (BMPs) have been developed that include components of the draft compensatory mitigation policy such as the priority for mitigating impacts, types of mitigation, long term durability, and monitoring. The BMPs also identify Utah's Watershed Restoration Initiative projects as potential locations for compensatory mitigation outside the area of impact. Utah's Watershed Restoration Initiative is a partnership-driven effort which includes State and Federal agencies with a mission to conserve, restore, and manage ecosystems in priority areas across Utah. Comments on the MLP and Draft RMP Amendments/Draft EIS (MLP/DEIS) received from the public and internal BLM review were considered and incorporated, as appropriate, into the proposed plan amendments and Final EIS. Public comments resulted in the addition of clarifying text, but did not significantly change proposed land-use plan decisions. Adjustments and clarifications have also been made to the preferred alternative in the Draft EIS, which is now presented as the proposed plan in the Moab MLP/FEIS.

Instructions for filing a protest with the BLM Director regarding the Moab MLP/Proposed RMP Amendments/Final EIS may be found in the “Dear Reader” letter of the Moab MLP/Proposed RMP Amendments/Final EIS, and in the Federal regulations at 43 CFR 1610.5-2. All protests must be in writing and mailed to the appropriate address, as set forth in the ADDRESSES section above. Emailed protests will not be accepted as valid protests unless the protesting party also provides the original letter by either regular mail or overnight delivery postmarked by the close of the protest period. Under these conditions, the BLM will consider the email as an advance copy and it will receive full consideration. If you wish to provide the BLM with such advance notification, please direct emails to protest@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Jenna Whitlock,
Acting State Director.

[FR Doc. 2016-17592 Filed 7-25-16; 8:45 am]

BILLING CODE 4310-DQ-P